DEPARTMENT OF AGRICULTURE

Commodity Credit Corporation

Cane Sugar and Beet Sugar Marketing Allotments and Company Allocations, 2006-Crop Final and 2007-Crop Initial; Domestic Sugar Program

AGENCY: Commodity Credit Corporation, USDA.

ACTION: Notice.

SUMMARY: The Commodity Credit Corporation (CCC) is issuing this notice to publish the final 2006-crop cane state allotments and company allocations to sugarcane and sugar beet processors for the period from October 1, 2006 through September 30, 2007 (fiscal year (FY) 2007). This notice also publishes the 2007-crop (FY 2008) cane state allotments and company allocations based on an 8.450 million short tons, raw value (STRV) overall allotment quantity (OAQ) of domestic sugar. This applies to all domestic sugar marketed for human consumption in the United States from October 1, 2007, through September 30, 2008.

FOR FURTHER INFORMATION CONTACT: Barbara Fecso, Dairy and Sweeteners Analysis Group, Economic Policy and Analysis Staff, Farm Service Agency, USDA, 1400 Independence Avenue, SW., STOP 0516, Washington, DC 20250-0516; telephone (202) 720-4146; FAX (202) 690-1480; e-mail: barbara.fecso@wdc.usda.gov.

SUPPLEMENTARY INFORMATION:

Background

As part of the domestic sugar program, for sugar marketed for human consumption in the United States, CCC is required to make determinations establishing, adjusting, or suspending sugar marketing allotments. The Secretary is required to establish, by the beginning of each crop year, an appropriate allotment for the marketing by processors of sugar processed from sugar beets and from domestically produced cane sugar at a level the Secretary estimates will result in no forfeitures of sugar to the CCC under the loan program ¹ (7 U.S.C. 1359bb(a)(1)). The Secretary is also required to publish the determinations in the Federal Register along with the reasons for the determinations (7 U.S.C. 1359hh).

¹ The sugar loan program provides loans to processors of domestically grown sugarcane and sugar beets (authorized by 7 U.S.C. 7272).

CCC announced the Final FY 2007 and initial FY 2008 allotments and allocations in a September 27, 2007, news release. This notice provides the final allotments and allocations for FY 2007 and the initial allotments and allocations for FY 2008.

Final FY 2007 State Allotments and Company Allocations

The Secretary is required to reassign the remainder of the allocation to imports if the Secretary determines that processors will be unable to market their allocations after other reassignments and sales from CCC inventory have occurred (7 U.S.C. 1359ee(b)(1)(D)). In a July 31, 2007, news release, CCC announced the determination of a FY 2007 domestic cane sugar supply shortfall of 79,000 STRV and reassigned this deficit to imports. State allotments and company allocations were adjusted downward to reflect the ability of each company and each state to market its allocation and allotment.

The final 2006-crop (FY 2007) beet sugar and cane sugar marketing allotments are listed in the following table:

FY 2007 Overall Beet Sugar and Cane Sugar Allotments and Allocations
Distribution | FY 2007 allotments or allocations as of 5/25/07 | Changes due to reassignments | Final FY 2007 allotments or allocations
Beet Sugar | 4,755,625 | 0 | 4,755,625
Cane Sugar | 3,619,375 | −79,000 | 3,540,375
Reassignment to Imports | 375,000 | 79,000 | 454,000
Total OAQ | 8,750,000 | 0 | 8,750,000
Sugar Beet Processors' Marketing Allocations:
Amalgamated Sugar Co | 990,810 | 0 | 990,810
American Crystal Sugar Co | 1,828,960 | 0 | 1,828,960
Michigan Sugar Co | 477,920 | 0 | 477,920
Minn-Dak Farmers Co-op | 296,690 | 0 | 296,690
So. Minn Beet Sugar Co-op | 624,582 | 0 | 624,582
Western Sugar Co | 473,221 | 0 | 473,221
Wyoming Sugar Co | 63,441 | 0 | 63,441
Total Beet Sugar | 4,755,625 | 0 | 4,755,625
State Cane Sugar Allotments:
Florida | 1,732,769 | −17,282 | 1,715,487
Louisiana | 1,423,167 | −21,916 | 1,401,251
Texas | 198,965 | −18,347 | 180,618
Hawaii | 264,474 | −21,455 | 243,019
Total Cane Sugar | 3,619,375 | −79,000 | 3,540,375
Cane Processors' Marketing Allocations:
Florida:
Florida Crystals | 673,033 | −3,081 | 669,952
Growers Co-op. of FL | 323,322 | 8 | 323,330
U.S. Sugar Corp | 736,414 | −14,209 | 722,205
Total | 1,732,769 | −17,282 | 1,715,487
Louisiana:
Alma Plantation | 128,232 | −1,976 | 126,256
Cajun Sugar Co-op | 119,059 | 1,448 | 120,507
Cora-Texas Mfg. Co | 168,731 | −2,600 | 166,131
Lafourche Sugars Corp | 92,794 | 3,457 | 96,251
Louisiana Sugarcane Co-op | 99,818 | −1,567 | 98,251
Lula Westfield, LLC | 206,718 | −7,347 | 199,371
M.A. Patout & Sons | 426,889 | −6,579 | 420,310
St. Mary Sugar Co-op | 126,000 | −5,905 | 120,095
So. Louisiana Sugars Co-op | 54,927 | −847 | 54,080
Total | 1,423,167 | −21,916 | 1,401,251
Texas:
Rio Grande Valley | 198,965 | −18,347 | 180,618
Hawaii:
Gay & Robinson, Inc | 53,811 | 0 | 53,811
Hawaiian Commercial & Sugar Company | 210,663 | −21,455 | 189,208
Total | 264,474 | −21,455 | 243,019

Initial FY 2008 State Allotments and Company Allocations

When CCC announced an 8.450 million ton STRV OAQ in an August 10, 2007, news release, it distributed 54.35 percent of the FY 2008 OAQ (4,592,575 STRV) to the beet sugar allotment. At that time, however, CCC determined that the cane sugar sector would be unable to fill 70,000 STRV of its allotment and withheld this amount for reassignment to imports. Consequently, of the 45.65 percent of the OAQ statutorily allotted to the cane sugar sector (3,857,425 STRV), only 3,787,425 STRV was allotted to cane sugar states for allocation to sugarcane processors. Cane sugar state allotments and processor allocations were announced by CCC in a September 27, 2007 news release.

Reasons for the Determinations for the Initial FY 2008 Allotments and Allocations

To establish sugar beet processor allocations, CCC applies the sugar beet sector's allotment to fixed company allocation shares. Likewise, cane sugar state and cane sugar processor allocations are calculated by applying fixed shares to the cane sugar allotment. Allocation shares will change only if CCC determines that a processor cannot fulfill its sugar allocation and reassigns the unused allocation to other processors or if a grower successfully transfers allocation commensurate with his production history to another processor.

CCC determined that South Louisiana Sugars Cooperative, Inc., a Louisiana sugarcane processor, was closed and accepted grower petitions to transfer allocation elsewhere. Permanent allocation transfers in Louisiana could not be made by the September 30, 2007, announcement deadline for FY 2008 allocations, but will be forthcoming.

CCC is required to limit the amount of sugarcane acreage that may be harvested in Louisiana for sugar or seed whenever marketing allotments are in effect and the quantity of sugarcane estimated to be produced in Louisiana, plus a reasonable carryover, exceeds the marketing allotment allocation for Louisiana. This limitation is referred to as a “proportionate share,” and is applied to each farm's sugarcane acreage base to determine the quantity of sugarcane that may be harvested on that farm. Because production is expected to be inadequate to fill Louisiana's FY 2008 allotment, CCC determined that there will be no proportionate share restrictions for the 2007 crop year.

In FY 2004, CCC determined that Puerto Rico's processors permanently terminated operations because no sugar had been processed for two complete years. Since Puerto Rico is entitled to an allocation by law, its allocation of 6,356 STRV is reassigned to the mainland cane sugar-producing states. Hawaii did not receive any of Puerto Rico's reassignment because it is not expected to use all of its current cane sugar allotment. A request for an allocation as a new entrant will be required for any mills in Puerto Rico to market cane sugar in the future.

The established 2007-crop (FY 2008) sugar beet and cane sugar marketing allotments are listed in the following table:

FY 2008 Overall Beet Sugar and Cane Sugar Allotments and Allocations
Distribution | Initial FY 2008 allotments or allocations | Changes due to reassignments | Adjusted initial FY 2008 allotments or allocations
Beet Sugar | 4,592,575 | 0 | 4,592,575
Cane Sugar | 3,857,425 | −70,000 | 3,787,425
Reassignment to Imports | 0 | 70,000 | 70,000
Total OAQ | 8,450,000 | 0 | 8,450,000
Beet Processors' Marketing Allocations:
Amalgamated Sugar Co | 956,839 | 0 | 956,839
American Crystal Sugar Co | 1,766,076 | 0 | 1,766,076
Michigan Sugar Co | 461,535 | 0 | 461,535
Minn-Dak Farmers Co-op | 286,518 | 0 | 286,518
So. Minn Beet Sugar Co-op | 603,168 | 0 | 603,168
Western Sugar Co | 457,172 | 0 | 457,172
Wyoming Sugar Co | 61,266 | 0 | 61,266
Total Beet Sugar | 4,592,575 | 0 | 4,592,575
State Cane Sugar Allotments:
Florida | 1,902,014 | −81,411 | 1,820,603
Louisiana | 1,471,422 | 2,155 | 1,473,577
Texas | 165,345 | 32,755 | 198,100
Hawaii | 318,644 | −23,499 | 295,145
Total Cane Sugar | 3,857,425 | −70,000 | 3,787,425
Cane Processors' Marketing Allocations:
Florida:
Florida Crystals | 783,109 | −45,673 | 737,436
Growers Co-op. of FL | 342,144 | −12,101 | 330,043
U.S. Sugar Corp | 776,761 | −23,636 | 753,124
Total | 1,902,014 | −81,411 | 1,820,603
Louisiana:
Alma Plantation | 123,219 | 14,061 | 137,280
Cajun Sugar Co-op | 148,785 | −26,285 | 122,500
Cora-Texas Mfg. Co | 153,514 | 36,367 | 189,881
Lafourche Sugars Corp | 80,143 | 29,574 | 109,717
Louisiana Sugarcane Co-op | 113,143 | −14,018 | 99,124
Lula Westfield, LLC | 173,759 | 57,850 | 231,608
M.A. Patout & Sons | 413,376 | 33,590 | 446,966
St. Mary Sugar Co-op | 149,867 | −13,367 | 136,500
So. Louisiana Sugars Co-op | 115,617 | −115,617 | 0
Total | 1,471,422 | 2,155 | 1,473,577
Texas:
Rio Grande Valley | 165,345 | 32,755 | 198,100
Hawaii:
Gay & Robinson, Inc | 73,145 | −1,718 | 71,428
Hawaiian Commercial & Sugar Company | 245,499 | −21,781 | 223,718
Total | 318,644 | −23,499 | 295,145

Signed in Washington, DC, on January 2, 2008.
Glen L. Keppy,
Acting Executive Vice President, Commodity Credit Corporation.

[FR Doc. E8-35 Filed 1-7-08; 8:45 am]

BILLING CODE 3410-05-P